DEPARTMENT OF LABOR

Employment and Training Administration

[TA-W-52,177]

Redman Knitting Inc., Ridgewood, New York; Notice of Negative Determination Regarding Application for Reconsideration

By application of September 2, 2003, a worker requested administrative reconsideration of the Department's negative determination regarding eligibility to apply for Trade Adjustment Assistance (TAA), applicable to workers and former workers of the subject firm. The denial notice was signed on July 29, 2003, and published in the Federal Register on August 14, 2003 (68 FR 48643).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Redman Knitting Inc., Ridgewood, New York was denied because the “contributed importantly” group eligibility requirement of Section 222(3) of the Trade Act of 1974, as amended, was not met. The “contributed importantly” test is generally demonstrated through a survey of customers of the workers' firm. The survey revealed that none of the respondents increased their purchases of imported knitted fabric.

The worker states that the production of knitted fabric made at the subject firm was used by customer(s) for production of knitted sweaters, and that customer(s) are now importing completed sweaters.

Contact with a company official confirmed that major declining customer(s) of the subject firm are importing completed sweaters. However, imports of sweaters are not “like or directly competitive” with the product produced (knitted fabric) by the subject firm. Therefore, customer imports in this case are not relevant in meeting the eligibility requirement of Section 222(3) of the Trade Act of 1974 under primary impact.

Further, major declining customer(s) of the subject firm are not certified for TAA, thus the subject firm workers are not eligible under secondary impact.

Conclusion

After review of the application and investigative findings, I conclude that there has been no error or misinterpretation of the law or of the facts which would justify reconsideration of the Department of Labor's prior decision. Accordingly, the application is denied.

Signed at Washington, DC this 25th day of September 2003.
Linda G. Poole,
Certifying Officer, Division of Trade Adjustment Assistance.

[FR Doc. 03-25708 Filed 10-9-03; 8:45 am]

BILLING CODE 4510-30-P